DEPARTMENT OF DEFENSE

Department of the Army, Corps of Engineers

33 CFR Part 274

RIN 0710-AB37

Pest Control Program for Civil Works Projects

AGENCY: U.S. Army Corps of Engineers, Department of Defense.

ACTION: Final rule.

SUMMARY: This final rule removes the U.S. Army Corps of Engineers (USACE) part titled, “Pest Control Program for Civil Works Projects.” This part is redundant and otherwise covers internal agency operations that have no public compliance component or adverse public impact. Therefore, this part can be removed from the Code of Federal Regulations (CFR).

DATES: This rule is effective on July 15, 2021.

ADDRESSES: Department of the Army, U.S. Army Corps of Engineers, ATTN: CECW-P (Mr. Jeremy Crossland), 441 G Street NW, Washington, DC 20314-1000.

FOR FURTHER INFORMATION CONTACT: Mr. Jeremy Crossland at (202) 761-4259 or by email at Jeremy.M.Crossland@usace.army.mil.

SUPPLEMENTARY INFORMATION: This final rule removes from the Code of Federal Regulations 33 CFR part 274 titled, “Pest Control Program for Civil Works Projects,” which assigns responsibilities and prescribes procedures concerning the use of chemicals in the USACE pest control program at Civil Works projects under the authority of Public Law 92-516, as amended, Federal Insecticide, Fungicide and Rodenticide ACT (FIFRA), 7 U.S.C. 136 et seq.,which among other things, transferred responsibility of pesticide regulation from the Department of Agriculture to the Environmental Protection Agency. This rule was initially published on August 15, 1977 (42 FR 41118). While the rule applies only to the Corps' Pest Control Program, it was published, at that time, in the Federal Register to aid public accessibility.

The solicitation of public comment for this removal is unnecessary because the rule is out-of-date, duplicative of existing internal agency guidance, and otherwise covers internal agency operations that have no public compliance component or adverse public impact. For current public accessibility purposes, updated internal agency policy on this topic may be found in Engineer Regulation 1130-2-540, “Environmental Stewardship Operations and Maintenance Guidance and Procedures” (available at https://www.publications.usace.army.mil/Portals/76/Publications/EngineerRegulations/ER_1130-2-540.pdf) The agency policy is only applicable to field operating activities having responsibility for the Pest Control Program and provides guidance specific to the Corps' use of chemicals at Civil Works projects.

This rule removal is being conducted to reduce confusion for the public as well as for the Corps regarding the current policy which governs the Corps' Pest Control Program. Because the regulation does not place a burden on the public, its removal does not provide a reduction in public burden or costs. This rule is not significant under Executive Order 12866, “Regulatory Planning and Review.”

List of Subjects in 33 CFR Part 274

Pesticides and pests, Water resources.

PART 274 [REMOVED]

Accordingly, under the authority of 5 U.S.C. 301, the Army Corps of Engineers removes 33 CFR part 274.

Dated: July 1, 2021.
Jaime A. Pinkham,
Acting Assistant Secretary of the Army (Civil Works).

[FR Doc. 2021-14721 Filed 7-14-21; 8:45 am]

BILLING CODE 3720-58-P